DEPARTMENT OF THE INTERIOR

National Park Service

Announcement of the National Park Service (NPS) Subsistence Resource Commission (SRC) Meetings Within the Alaska Region

AGENCY: National Park Service, Interior.

SUMMARY: The National Park Service (NPS) announces the SRC meeting schedule for the following NPS areas: Denali National Park and Wrangell-St. Elias National Park. The purpose of each meeting is to develop and continue work on subsistence hunting program recommendations and other related subsistence management issues. Each meeting is open to the public and will have time allocated for public testimony. The public is welcomed to present written or oral comments to the SRC.

The NPS SRC program is authorized under Title VIII, Section 808, of the Alaska National Interest Lands Conservation Act, Pub. L. 96-487, to operate in accordance with the provisions of the Federal Advisory Committee Act. Draft meeting minutes will be available upon request from each Superintendent for public inspection approximately six weeks after each meeting.

DATES: The Denali National Park SRC meeting will be held on Thursday, August 3, 2006, from 9 a.m. to 5 p.m.

Location: The Denali National Park SRC meeting will be held at the Murie Science and Learning Center in Denali Park, Alaska.

FOR FURTHER INFORMATION CONTACT: Paul Anderson, Superintendent and Phillip Hooge, Deputy Superintendent, Denali National Park and Preserve, SRC P.O. Box 9, Denali Park, AK 99755, telephone: (907) 683-9581. E-mail: phillip_hooge@nps.gov.

DATES: The Wrangell-St. Elias National Park SRC meeting will be held on Wednesday, September 27, 2006, from 9 a.m. to 5 p.m.

Location: The meeting will be held at the Kenny Lake Community Hall, (Mile 7.5 Edgerton Highway), in Kenny Lake, Alaska.

FOR FURTHER INFORMATION CONTACT: Will Tipton, Acting Superintendent and Barbara Cellarius, Subsistence Manager/Cultural Anthropologist, Wrangell-St. Elias National Park and Preserve, P.O. Box 439, Copper Center, AK 99573, telephone: (907) 822-5234. E-mail: Will_ Tipton@nps.gov or Barbara_Cellarius@nps.gov.

SUPPLEMENTARY INFORMATION: SRC meeting locations and dates may need to be changed due to weather conditions or local circumstances. If meeting dates and locations are changed a public notice will be published in local newspapers and announced on local radio stations.

The proposed agenda for each meeting includes the following:

1. Call to order by Chair.

2. Roll call and confirmation of quorum.

3. Superintendent's welcome and report.

4. Approval of minutes from last Commission meeting.

5. Additions and corrections to draft agenda.

6. Public and other agency comments.

7. Old Business.

a. Follow-up report on SRC recommendations from last meeting.

b. Federal Subsistence Board Actions and Proposals .

c. Alaska Board of Game Actions and Proposals.

8. New Business.

a. Resource Management Program Updates.

b. Cultural and Subsistence Program Updates.

c. Chief Ranger Report on Regulatory and Permit Actions.

d. Other Subsistence Related Issues.

9. Public and other agency comments.

10. Subsistence Resource Commission Work Session.

11. Set time and place of next SRC meeting.

12. Adjournment.

Victor Knox,
Acting Regional Director, Alaska Region.

[FR Doc. E6-11426 Filed 7-18-06; 8:45 am]

BILLING CODE 4310-PF-P